DEPARTMENT OF ENERGY

Federal Energy Regulatory Commission

Combined Notice of Filings #1

Take notice that the Commission received the following electric rate filings:

Docket Numbers: ER12-2068-005; ER10-2460-006; ER10-2461-006; ER12-682-007; ER10-2463-006; ER11-2201-010; ER10-2464-003; ER13-1585-003; ER13-17-004; ER12-1311-006; ER10-2466-007; ER11-4029-006.

Applicants: Blue Sky East, LLC, Canandaigua Power Partners, LLC, Canandaigua Power Partners II, LLC, Erie Wind, LLC, Evergreen Wind Power, LLC, Evergreen Wind Power III, LLC, First Wind Energy Marketing, LLC, Longfellow Wind, LLC, Niagara Wind Power, LLC, Stetson Holdings, LLC, Stetson Wind II, LLC, Vermont Wind, LLC.

Description: Second Supplement to December 31, 2013 Market Power Update for the Northeast Region and Notice of Change in Status of Blue Sky East, LLC, et. al.

Filed Date: 4/11/14.

Accession Number: 20140411-5293.

Comments Due: 5 p.m. ET 5/2/14.

Docket Numbers: ER14-7-000.

Applicants: American Electric Power Service Corporation.

Description: Refund Report to be effective N/A.

Filed Date: 4/11/14.

Accession Number: 20140411-5286.

Comments Due: 5 p.m. ET 5/2/14.

Docket Numbers: ER14-990-001.

Applicants: Midcontinent Independent System Operator, Inc.

Description: 2014-04-14_Docket No. ER14-990-000_DR/EER Netting Compliance to be effective 3/15/2014.

Filed Date: 4/14/14.

Accession Number: 20140414-5175.

Comments Due: 5 p.m. ET 5/5/14.

Docket Numbers: ER14-1630-001.

Applicants: Mantua Creek Solar, LLC.

Description: Mantua Creek Solar, LLC Amendment to Application for MBR and Tariff to be effective 4/1/2014.

Filed Date: 4/11/14.

Accession Number: 20140411-5277.

Comments Due: 5 p.m. ET 5/2/14.

Docket Numbers: ER14-1712-000.

Applicants: Ohio Valley Electric Corporation.

Description: Amended and Restated Interconnection Agreement to be effective 4/12/2014.

Filed Date: 4/11/14.

Accession Number: 20140411-5275.

Comments Due: 5 p.m. ET 5/2/14.

Docket Numbers: ER14-1713-000.

Applicants: Midcontinent Independent System Operator, Inc.

Description: 2014-04-11_Docket No. ER14-1713-000_Flow Limit Filing to be effective 4/12/2014.

Filed Date: 4/11/14.

Accession Number: 20140411-5276.

Comments Due: 5 p.m. ET 5/2/14.

Docket Numbers: ER14-1714-000.

Applicants: New York Independent System Operator, Inc.

Description: Request for limited tariff waiver and expedited Commission action of New York Independent System Operator, Inc.

Filed Date: 4/11/14.

Accession Number: 20140411-5285.

Comments Due: 5 p.m. ET 4/21/14.

Docket Numbers: ER14-1715-000.

Applicants: Michigan Electric Transmission Company, LLC.

Description: Filing of Amended and Restated Service Agreement to be effective 6/13/2014.

Filed Date: 4/14/14.

Accession Number: 20140414-5088.

Comments Due: 5 p.m. ET 5/5/14.

Docket Numbers: ER14-1716-000.

Applicants: PJM Interconnection, L.L.C.

Description: Original Service Agreement No. 3799-Queue Position Y3-100 to be effective 3/13/2014.

Filed Date: 4/14/14.

Accession Number: 20140414-5108.

Comments Due: 5 p.m. ET 5/5/14.

Docket Numbers: ER14-1717-000.

Applicants: PJM Interconnection, L.L.C.

Description: Original Service Agreement No. 3798-Queue Position Y3-099 to be effective 3/13/2014.

Filed Date: 4/14/14.

Accession Number: 20140414-5176.

Comments Due: 5 p.m. ET 5/5/14.

Take notice that the Commission received the following open access transmission tariff filings:

Docket Numbers: OA07-19-010; OA07-43-011; ER07-1171-011.

Applicants: Arizona Public Service Company.

Description: Arizona Public Service Company submits its annual compliance report on penalty assessments and distributions in OA07-19, et al.

Filed Date: 4/11/14.

Accession Number: 20140411-5291.

Comments Due: 5 p.m. ET 5/2/14.

Docket Numbers: OA07-44-008.

Applicants: El Paso Electric Company.

Description: Report on Operational Penalty Distributions of El Paso Electric Company.

Filed Date: 4/14/14.

Accession Number: 20140414-5129.

Comments Due: 5 p.m. ET 5/5/14.

Docket Numbers: OA09-22-006.

Applicants: Florida Power & Light Company.

Description: Annual Compliance Report Regarding Penalties for Unreserved Use of Florida Power & Light Company.

Filed Date: 4/11/14.

Accession Number: 20140411-5290.

Comments Due: 5 p.m. ET 5/2/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 14, 2014.
Nathaniel J. Davis, Sr.,
Deputy Secretary.

[FR Doc. 2014-09114 Filed 4-21-14; 8:45 am]

BILLING CODE 6717-01-P